DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Visitor Center and Exhibit Surveys at the Office of National Marine Sanctuaries and Partner Outreach Facilities.

OMB Control Number: 0648-xxxx.

Form Number(s): None.

Type of Request: Regular (request for a new information collection).

Number of Respondents: 8,400.

Average Hours per Response: 4 minutes.

Burden Hours: 560.

Needs and Uses: This request is for a new collection of information. NOAA's Office of National Marine Sanctuaries (ONMS) is conducting research to measure the public's opinions about sanctuary visitor centers, exhibits, and kiosks. Exhibits and kiosks covered under the survey can be permanent or traveling/temporary. The survey will be administered annually both within ONMS visitor centers as well as at partner venues that host an exhibit or kiosk on a national marine sanctuary or marine national monument. The survey will cover visitor centers, exhibits, and kiosks system-wide across all the national marine sanctuaries and marine national monuments managed or co-managed by NOAA's ONMS.

The visitor survey will be conducted to obtain an objective analysis of visitor experiences within a sanctuary visitor center or at a partner venue that includes an exhibit or kiosk with information on a national marine sanctuary or marine national monument. Information will be obtained on visitor satisfaction with the overall exhibits or kiosks, graphics, multi-media products, interactives, along with the overall feelings about the facilities and services offered at the centers/venues. The survey will acquire data on the effectiveness of sanctuary/monument messaging, awareness about and use of sanctuary/monument resources, as well as additional recreational and/or educational opportunities available to the public. Lastly, the survey will include questions about visitor demographics.

Affected Public: Individuals or households.

Frequency: One time.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Dated: September 28, 2018.
Sarah Brabson,
NOAA PRA Clearance Officer.

[FR Doc. 2018-21525 Filed 10-2-18; 8:45 am]

BILLING CODE 3510-NK-P